DEPARTMENT OF AGRICULTURE

Animal and Plant Health Inspection Service

[Docket No. APHIS-2019-0068]

Notice of Availability of an Environmental Assessment and Finding of No Significant Impact for Release of Lilioceris egena for Biological Control of Air Potato in the Continental United States

AGENCY: Animal and Plant Health Inspection Service, Agriculture (USDA).

ACTION: Notice of availability.

SUMMARY: We are advising the public that the Animal and Plant Health Inspection Service has prepared a final environmental assessment (EA) and finding of no significant impact relative to permitting the release of an insect, Lilioceris egena, for the biological control of air potato (Dioscorea bulbifera) in the continental United States. Based on our finding of no significant impact, we have determined that an environmental impact statement need not be prepared.

FOR FURTHER INFORMATION CONTACT: Dr. Colin D. Stewart, Assistant Director, Pests, Pathogens, and Biocontrol Permits, Permitting and Compliance Coordination, PPQ, APHIS, 4700 River Road, Unit 133, Riverdale, MD 20737-1237; (301) 851-2237; colin.stewart@usda.gov.

SUPPLEMENTARY INFORMATION:

Background

The Animal and Plant Health Inspection Service (APHIS) is issuing permits for the release of an insect, Lilioceris egena, into the continental United States for use as a biological control agent to reduce the severity of air potato (Dioscorea bulbifera) infestations.

Air potato is an herbaceous, twining vine that can grow 65 feet long or more, capable of climbing and out-competing native vegetation. Since its introduction to Florida in 1905, air potato has aggressively spread throughout the State; this species is reportedly naturalized in Georgia, Alabama, Mississippi, Louisiana, Texas, and Hawaii. In 1999, the Florida Department of Agricultural and Consumer Services added air potato to its list of noxious weeds in an attempt to protect the State's native plant species from being displaced or hybridized. Presently, the air potato is well established in Florida and probably throughout the Gulf States where it has the potential to severely disrupt entire ecosystems.

On January 8, 2021, we published in the Federal Register (86 FR 1477-1478, Docket No. APHIS-2019-0068) a notice ¹ in which we announced the availability, for public review and comment, of an environmental assessment (EA) that examined the release of L. egena into the continental United States for use as a biological control agent to reduce the severity of air potato (D. bulbifera) infestations. Comments on the notice were required to be received on or before February 8, 2021. We received 14 comments by that date, and they are addressed in the EA. All of the comments were in favor of the proposed release and did not raise any substantive issues.

¹ To view the notice, supporting documents, and the comments we received, go to https://www.regulations.gov and enter APHIS-2019-0068 in the Search field.

In this document, we are advising the public of our finding of no significant impact (FONSI) regarding the release of L. egena, into the continental United States for use as a biological control agent to reduce the severity of air potato (D. bulbifera) infestations. The finding, which is based on the EA, reflects our determination that release of L. egena, into the continental United States will not have a significant impact on the quality of the human environment.

The EA and FONSI may be viewed on the Regulations.gov website (see footnote 1). Copies of the EA and FONSI are also available for public inspection at 1620 of the USDA South Building, 14th Street and Independence Avenue SW, Washington, DC. Normal reading room hours are 8 a.m. to 4:30 p.m., Monday through Friday, except holidays. Persons wishing to inspect copies are requested to call ahead on (202) 799-7039 to facilitate entry into the reading room. In addition, copies may be obtained by calling or writing to the individual listed under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 27th day of April 2022.
Anthony Shea,
Administrator, Animal and Plant Health Inspection Service.

[FR Doc. 2022-09467 Filed 5-2-22; 8:45 am]

BILLING CODE 3410-34-P